DEPARTMENT OF THE INTERIOR

Bureau of Land Management

[CA-330-1220-MA]

Notice of Temporary Restriction Order

AGENCY: Bureau of Land Management, Interior.

SUMMARY: The U.S. Department of the Interior, Bureau of Land Management (BLM), Arcata Field Office will establish temporary restrictions pursuant to the Code of Federal Regulations, Title 43, Subpart 8364.1 to effectively implement interim management guidelines for certain BLM-administered public lands hereafter referred to as “Ma-le'l Dunes”, located in Township 6 North, Range 1 West, portions of Sections 26, 27, 34, and 35, Humboldt County, California. Ma-le'l Dunes consists of approximately 150 acres and is located along the coastline nearly two miles west of Arcata, CA. These restrictions are needed on a temporary basis until a Resource Management Plan (RMP) Amendment, beginning in 2008, is completed for the area. The area is now open to dispersed recreation uses with an emphasis placed on accommodating pedestrian and equestrian access to the coastline. The temporary restrictions are as follows:

The parking/picnic area will be closed to vehicles from one hour after sunset to sunrise;

Equestrian use will be allowed on designated trails and the waveslope;

Pedestrian use will be allowed on designated trails, open sandy areas, and the waveslope;

Dogs must be leashed in the developed recreation site (parking/picnic area); otherwise dogs will be allowed off-leash consistent with the Humboldt County ordinance;

Group camping will be allowed on a case by case basis under Special Recreation Permit guidelines. Criteria for determining permit issuance include: (1) Size of group, (2) number of permits per month, (3) purpose of event (does it benefit the overall community in some way). Additional criteria may be developed as an adaptive management measure;

Vegetative gathering for personal use will be allowed from May to November along designated trails. Off-trail gathering will require a permit during this same time period;

Fires will be allowed in designated sites (fire rings) only;

The area will be open to day use, from sunrise to one hour after sunset. Overnight camping will not be allowed except by permit.

Employees, agents and permitees of the BLM may be exempt from these restrictions for administrative and emergency purposes only.

Penalties include a fine not to exceed $1,000 and/or imprisonment not to exceed 12 months. These restrictions are necessary to (1) Protect aquatic and terrestrial species from the effects of unregulated impacts, (2) ensure public safety, (3) reduce the potential for wildfires in this wildland urban interface, and (4) minimize inadvertent trespass onto adjoining private property. They will remain in effect until a formal planning process, with full public participation, is completed.

DATES: These restrictions will be effective once they are posted at the designated site location and BLM Arcata Field Office.

ADDRESSES: Maps and supporting documentation are available for review at the following location: Bureau of Land Management, Arcata Field Office, 1695 Heindon Road, Arcata, CA 95521.

FOR FURTHER INFORMATION CONTACT: Lynda J. Roush, BLM, Arcata Field Manager, 1695 Heindon Road, Arcata, CA 95521. Ms. Roush may also be contacted by telephone: (707) 825-2300.

SUPPLEMENTARY INFORMATION: The BLM recently acquired this 38-acre parcel adjacent to its existing 112 acres and developed a parking and picnic area to accommodate an increased demand for pedestrian and equestrian access to the beach. The anticipated increased visitor use will have unacceptable adverse impacts on significant resource values, including impacts on endangered plant species, if temporary restrictions are not initiated.

By taking this interim action, BLM provides responsible public access and recreation uses, while contributing to the conservation of two endangered species in accordance with Section 7(a)(1) of the Endangered Species Act (ESA), 16 U.S.C 1536(a)(1). These restrictions will be posted in the BLM Arcata Field Office and at places near and/or within the affected public lands.

Lynda J. Roush,
Arcata Field Manager.

[FR Doc. E5-6770 Filed 12-1-05; 8:45 am]

BILLING CODE 4310-40-P